DEPARTMENT OF ENERGY

Federal Energy Regulatory Commission

Combined Notice of Filings #1

Take notice that the Commission received the following exempt wholesale generator filings:

Docket Numbers: EG13-56-000.

Applicants: Allegany Generating Station LLC.

Description: Self-Certification of EG Allegany Generating Station LLC.

Filed Date: 8/21/13.

Accession Number: 20130821-5100.

Comments Due: 5 p.m. e.t. 9/11/13.

Take notice that the Commission received the following electric rate filings:

Docket Numbers: ER13-2205-000.

Applicants: Dominion Energy Marketing, Inc.

Description: Compliance- Amend Cert of Concurrence Chg to DEMI to be effective 8/21/2013.

Filed Date: 8/20/13.

Accession Number: 20130820-5089.

Comments Due: 5 p.m. e.t. 9/10/13.

Docket Numbers: ER13-2206-000.

Applicants: Avista Corporation.

Description: Avista Corporation submits Average System Cost Filing for Sales of Electric Power to the Bonneville Power Administration, FY 2014-2015.

Filed Date: 8/20/13.

Accession Number: 20130820-5098.

Comments Due: 5 p.m. e.t. 9/10/13.

Docket Numbers: ER13-2207-000.

Applicants: Arizona Public Service Company.

Description: SA No. 328 between APS and Novo Bio Power to supercede and cancel SA No. 215 to be effective 8/1/2013.

Filed Date: 8/20/13.

Accession Number: 20130820-5102.

Comments Due: 5 p.m. e.t. 9/10/13.

Docket Numbers: ER13-2208-000.

Applicants: Entergy Arkansas, Inc.

Description: Collation Value Correction Filing to be effective 7/14/2010.

Filed Date: 8/21/13.

Accession Number: 20130821-5000.

Comments Due: 5 p.m. e.t. 9/11/13.

Docket Numbers: ER13-2209-000.

Applicants: Consolidated Edison Company of New York, Inc., New York Independent System Operator, Inc.

Description: Con Edison 205 revisions to OATT 14.3—Grandfathered Agreement expiration to be effective 10/20/2013.

Filed Date: 8/21/13.

Accession Number: 20130821-5083.

Comments Due: 5 p.m. e.t. 9/11/13.

Docket Numbers: ER13-2210-000.

Applicants: ISO New England Inc.

Description: ISO New England Inc. Resource Termination—Constellation.

Filed Date: 8/21/13.

Accession Number: 20130821-5129.

Comments Due: 5 p.m. e.t. 9/11/13.

Docket Numbers: ER13-2211-000.

Applicants: Southwest Power Pool, Inc.

Description: 2479R1 KMEA and KCPL Meter Agent Services Agreement to be effective 8/1/2013.

Filed Date: 8/21/13

Accession Number: 20130821-5132.

Comments Due: 5 p.m. e.t. 9/11/13.

Docket Numbers: ER13-2212-000.

Applicants: ISO New England Inc.

Description: ISO New England Inc. Resource Termination—Waterbury Generation.

Filed Date: 8/21/13.

Accession Number: 20130821-5133.

Comments Due: 5 p.m. e.t. 9/11/13.

Docket Numbers: ER13-2213-000.

Applicants: ISO New England Inc.

Description: ISO New England Inc. Resource Termination—TransCanada.

Filed Date: 8/21/13.

Accession Number: 20130821-5137.

Comments Due: 5 p.m. e.t. 9/11/13.

Docket Numbers: ER13-2214-000.

Applicants: Southwest Power Pool, Inc.

Description: 1839R2 City of Osage City, Kansas NITSA and NOA to be effective 8/1/2013.

Filed Date: 8/21/13.

Accession Number: 20130821-5139.

Comments Due: 5 p.m. e.t. 9/11/13

Docket Numbers: ER13-2215-000.

Applicants: ISO New England Inc.

Description: ISO New England Inc. Resource Termination—Comverge.

Filed Date: 8/21/13.

Accession Number: 20130821-5142.

Comments Due: 5 p.m. e.t. 9/11/13.

Take notice that the Commission received the following qualifying facility filings:

Docket Numbers: QF13-600-000.

Applicants: Phoenix Contact Services, Inc.

Description: Form 556—Notice of Self-certification of qualifying cogeneration facility status of Phoenix Contact Services, Inc.

Filed Date: 8/20/13.

Accession Number: 20130820-5022.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 21, 2013.
Nathaniel J. Davis, Sr.,
Deputy Secretary.

[FR Doc. 2013-21193 Filed 8-29-13; 8:45 am]

BILLING CODE 6717-01-P